Title 3—

The President

Proclamation 8868 of September 21, 2012

Establishment of the Chimney Rock National Monument

By the President of the United States of America

A Proclamation

The Chimney Rock site in southwestern Colorado incorporates spiritual, historic, and scientific resources of great value and significance. A thousand years ago, the vast Chaco civilization was drawn to the site's soaring massive rock pinnacles, Chimney Rock and Companion Rock, that rise hundreds of feet from the valley floor to an elevation of 7,600 feet. High atop ancient sandstone formations, Ancestral Pueblo People built exquisite stone buildings, including the highest ceremonial “great house” in the Southwest.

This landscape, encompassing both Chimney Rock and Companion Rock, and known today as Chimney Rock, holds deep spiritual significance for modern Pueblo and tribal communities and was one of the largest communities of the Pueblo II era (900-1150 A.D.). The Chimney Rock site also includes nationally significant archaeology, archaeoastronomy, visual and landscape characteristics, and geological and biological features, as well as objects of deep cultural and educational value.

In 1100 A.D., the area's cultivated fields and settlements extended from the valley floors to the mesa tops. The pinnacles, Chimney Rock and Companion Rock, dominated the landscape. Today, peregrine falcons nest on the pinnacles and soar over ancient structures, the dramatic landscape, and the forested slopes of the Piedra River and Stolsteimer Creek drainages, which are all framed by the high peaks of the San Juan Mountains.

Migratory mule deer and elk herds pass through the area each fall and spring as they have for thousands of years, and live there during the critical winter months. Merriam's turkeys, river otters, bald eagles, golden eagles, mountain lions, bats, woodpeckers, and many species of migratory birds also live in the area among the Ponderosa Pine, pinon, and juniper. Several desert plants usually found farther south grow there, including a species of cholla cactus that does not occur naturally outside the Sonoran Desert and is believed to be associated with deliberate cultivation by the Ancestral Pueblo People.

The Chimney Rock site is one of the best recognized archaeoastronomical resources in North America. Virtually all building clusters have views of Chimney Rock and Companion Rock, which frame multiple astronomical alignments and illustrate the Ancestral Pueblo People's knowledge of astronomy. Hundreds of archaeological ruins and buildings from the Pueblo II period are within the boundaries of the site, including a Chaco-style communal multi-room “great house” built in the late eleventh century to command observations of the surrounding landscape and astronomical phenomena.

The Chimney Rock site features an isolated Chacoan settlement among a complex system of dispersed communities bound by economic, political, and religious interdependence centered in Chaco Canyon, New Mexico, about 100 miles south of Chimney Rock. Chimney Rock continues to contribute to our knowledge about the Ancestral Pueblo People and their understanding and command of their environment.

Today, descendants of the Ancestral Pueblo People return to this important place of cultural continuity to visit their ancestors and for other spiritual and traditional purposes. It is a living landscape that shapes those who visit it and brings people together across time. Since the 1920s, there has been significant archaeological interest in Chimney Rock. Because it does not appear to have been reoccupied after the early 1100s, Chimney Rock offers a valuable window into the cultural developments of the Pueblo II era and affords opportunities to understand how geology, ecology, and archaeology interrelate. Because visitors travel from areas near and far, these lands support a growing travel and tourism sector that is a source of economic opportunity for the community, especially businesses in the region. They also help to attract new residents, retirees, and businesses that will further diversify the local economy.

In 1970, Chimney Rock was listed on the National Register of Historic Places, and its spectacular landscape has been open to visitors ever since.

WHEREAS section 2 of the Act of June 8, 1906 (34 Stat. 225, 16 U.S.C. 431) (the “Antiquities Act”), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected;

WHEREAS it is in the public interest to preserve and protect the objects of scientific and historic interest at Chimney Rock;

NOW, THEREFORE, I, BARACK OBAMA, President of the United States of America, by the authority vested in me by section 2 of the Antiquities Act, hereby proclaim, set apart, and reserve as the Chimney Rock National Monument (monument) the objects identified above and all lands and interests in lands owned or controlled by the Government of the United States within the boundaries described on the accompanying map entitled “Chimney Rock National Monument” and the accompanying legal description, which are attached to and form a part of this proclamation, for the purpose of protecting those objects. These reserved Federal lands and interests in lands encompass approximately 4,726 acres, which is the smallest area compatible with the proper care and management of the objects to be protected.

All Federal lands and interests in lands within the boundaries of the monument are hereby appropriated and withdrawn from all forms of entry, location, selection, sale, leasing, or other disposition under the public lands laws, including withdrawal from location, entry, and patent under the mining laws, and from disposition under all laws relating to mineral and geothermal leasing. Lands and interests in lands within the monument's boundaries not owned or controlled by the United States shall be reserved as part of the monument upon acquisition of ownership or control by the United States.

The establishment of this monument is subject to valid existing rights. The Secretaries of Agriculture and the Interior shall manage development under existing oil and gas leases within the monument, subject to valid existing rights, so as not to create any new impacts that would interfere with the proper care and management of the objects protected by this proclamation.

Nothing in this proclamation shall be construed to alter the valid existing water rights of any party, including the United States.

The Secretary of Agriculture (Secretary) shall manage the monument through the Forest Service, pursuant to applicable legal authorities, consistent with the purposes and provisions of this proclamation. The Secretary shall prepare, within 3 years of the date of this proclamation, a management plan for the monument, and shall promulgate such regulations for its management as deemed appropriate. The plan will provide for protection and interpretation of the scientific and historic objects identified above, and continued public access to those objects, consistent with their protection. The plan will protect and preserve access by tribal members for traditional cultural, spiritual, and food- and medicine-gathering purposes, consistent with the purposes of the monument, to the maximum extent permitted by law.

The Secretary shall prepare a transportation plan that addresses actions necessary to protect the objects identified in this proclamation, including road closures and travel restrictions. For the purpose of protecting the objects identified above, the Secretary shall limit all motorized and mechanized vehicle use to designated roads, except for emergency or authorized administrative purposes.

The Secretary shall, in developing any management plans and any management rules and regulations governing the monument, consult with the Secretary of the Interior. The final decision to issue any management plans and any management rules and regulations rests with the Secretary of Agriculture. Management plans or rules and regulations developed by the Secretary of the Interior governing uses within national parks or other national monuments administered by the Secretary of the Interior shall not apply within the monument.

Nothing in this proclamation shall be deemed to enlarge or diminish the jurisdiction of the State of Colorado with respect to fish and wildlife management.

Nothing in this proclamation shall be deemed to enlarge or diminish the rights of any Indian tribe.

Laws, regulations, and policies followed by the Forest Service in issuing and administering grazing permits or leases on all lands under its jurisdiction shall continue to apply with regard to the lands in the monument.

The Secretary may carry out vegetative management treatments within the monument, except that timber harvest and prescribed fire may only be used when the Secretary determines it appropriate to address the risk of wildfire, insect infestation, or disease that would endanger the monument or imperil public safety.

Nothing in this proclamation shall be deemed to revoke any existing withdrawal, reservation, or appropriation; however, the national monument shall be the dominant reservation.

Warning is hereby given to all unauthorized persons not to appropriate, injure, destroy, or remove any feature of the monument and not to locate or settle upon any of the lands thereof.

IN WITNESS WHEREOF, I have hereunto set my hand this twenty-first day of September, in the year of our Lord two thousand twelve, and of the Independence of the United States of America the two hundred and thirty-seventh.

Billing code 3295-F2-P

[FR Doc. 2012-23863

Filed 9-26-12; 8:45 am]

Billing code 3410-10-C